ENVIRONMENTAL PROTECTION AGENCY

[ER-FRL-6699-3]

Environmental Impact Statements; Notice of Availability

Responsible Agency: Office of Federal Activities, General Information (202) 564-7167 or http://www.epa.gov/compliance/nepa/.

Weekly receipt of Environmental Impact Statements.

Filed 05/19/2008 Through 05/23/2008.

Pursuant to 40 CFR 1506.9.

EIS No. 20080204, Draft EIS, APH, 00, Programmatic—Use of Genetically Engineered Fruit Fly and Pink Bollworm in APHIS Plant Pest Control Programs, Implementation, Comment Period Ends: 07/14/2008, Contact: David A. Bergsten 301-734-6103.

EIS No. 20080205, Revised Final EIS, FHW, TX, Grand Parkway (State Highway 99) Selected the Preferred Alternative Corridor for Segment F-2 from SH 249 to IH 45, Right-of-Way Permit and U.S. Army COE Section 404 Permit, Harris County, TX, Wait Period Ends: 07/10/2008, Contact: Randy Paulk 512-536-5961.

EIS No. 20080206, Draft EIS, COE, CA, Middle Harbor Redevelopment Project, Proposal to Increase Container Terminal Efficiency to Accommodate a Portion of the Predicted Future Containerized Cargo, Section 10 and 404 Permits, Port of Long Beach, Los Angeles County, CA, Comment Period Ends: 07/11/2008, Contact: Antal Szijj 805-585-2147.

EIS No. 20080207, Final EIS, USN, FL, Shock Trail of the MESA VERDE (LPD 19), San Antonio (LPD 17) Class Ship designated as the Shock Ship for Proposed Shock Trail, Possible Offshore Locations are Naval Station Norfolk, VA; Naval Station Mayport, FL; and Naval Air Station Pensacola, FL, Wait Period Ends: 06/30/2008, Contact: Donald Shaver 703-412-7521.

EIS No. 20080208, Final EIS, NRC, OK, Sequoyah Fuels Corporation Site, Proposed Reclamation Activities for the 243-hectare (600 acre) Site, (NUREG-1888) in Gore, OK, Wait Period Ends: 06/30/2008, Contact: Allen H. Fetter 301-415-8556.

EIS No. 20080209, Draft EIS, AFS, WY, Inyan Kara Analysis Area Vegetation Management, Proposes to Implement Best Management Livestock Grazing Practices and Activities Associated with Adaptive Management and Monitoring Strategies, Douglas Ranger District, Medicine Bow Routt National Forest and Thunder Basin National Grassland, Niobrara and Weston Counties, WY, Comment Period Ends: 07/14/2008, Contact: Ernie Gipson 307-358-4960.

EIS No. 20080210, Draft Supplement, FHW, IN, US 31 Improvement Project (I-465 to IN 38), between I-465 North Leg and IN-38, Updated Information, NPDES Permit and U.S. Army Section 10 and 404 Permits, Hamilton County, IN, Comment Period Ends: 07/25/2008, Contact: Larry Heil 317-226-7480.

EIS No. 20080211, Final EIS, FRA, CA, Bay Area to Central Valley High-Speed Train (HST) Project, Provide a Reliable High-Speed Electrified Train System to Link Bay Area Cities to the Central Valley, Sacramento, and South California, Wait Period Ends: 06/30/2008, Contact: David Valenstein 202-493-6368.

EIS No. 20080212, Final EIS, BIA, WA, Cowlitz Indian Tribe Trust Acquisition and Casino Project, Take 151.87 Acres into Federal Trust and Issuing of Reservation Proclamation, and Approving the Gaming Development and Management Contract, Clack County, WA, Wait Period Ends: 06/30/2008, Contact: B.J. Howerton 503-231-6749.

EIS No. 20080213, Final EIS, COE, NC, PCS Phosphate Mine Continuation, New Information on Additional Alternative “L” and “M”, Proposes to Expand its Existing Open Pit Phosphate Mining Operation into a 3,412 Acre Tract, Pamlico River and South Creek, near Aurora, Beaufort County, NC, Wait Period Ends: 06/30/2008, Contact: Tom Walker 828-271-7980 Ext 222.

EIS No. 20080214, Final EIS, AFS, ID, Yakus Creek Project, Proposes Timber Harvest, Watershed Improvement, and Access Management Activities, Lochsa Ranger District, Clearwater National Forest, Idaho County, ID, Wait Period Ends: 06/30/2008, Contact: Craig Trulock 208-926-4274.

Amended Notices

EIS No. 20080167, Draft EIS, COE, CO, Northern Integrated Supply Project, Construction and Operation of a Regional Water Supply to Serve the Current and Future Water Needs of 12 Towns and Water District, Approval of Section 404 Permit Application, Northern Colorado Water Conservancy District, Larimer and Weld Counties, CO, Comment Period Ends: 07/30/2008, Contact: Chandler J. Peter 303-979-4120. Revision of FR Notice Published: Extending the Comment Period from 06/30/2008 to 07/30/2008.

Dated: May 27, 2008.
Ken Mittelholtz,
Environmental Protection Specialist, Office of Federal Activities.

[FR Doc. E8-12096 Filed 5-29-08; 8:45 am]

BILLING CODE 6560-50-P